DEPARTMENT OF THE INTERIOR

Bureau of Indian Affairs

[256A2100DD/AAKC001030/A0A51010.999900]

Proclaiming Certain Lands as Reservation for the Rincon Band of Luiseno Mission Indians of Rincon Reservation, California

AGENCY: Bureau of Indian Affairs, Interior.

ACTION: Notice of reservation proclamation.

SUMMARY: This notice informs the public that the Assistant Secretary—Indian Affairs proclaimed approximately 56.66 acres, more or less, an addition to the reservation of the Rincon Band of Luiseno Mission Indians of Rincon Reservation, California.

DATES: This proclamation was made on December 17, 2024.

FOR FURTHER INFORMATION CONTACT: Ms. Carla H. Clark, Bureau of Indian Affairs, Division of Real Estate Services, 1001 Indian School Road NW, Box #44, Albuquerque, New Mexico 87104, Carla.Clark@bia.gov, (720) 424-3233.

SUPPLEMENTARY INFORMATION: This notice is published in the exercise of authority delegated by the Secretary of the Interior to the Assistant Secretary—Indian Affairs by part 209 of the Departmental Manual.

A proclamation was issued according to the Act of June 18, 1934 (48 Stat. 984; 25 U.S.C. 5110) for the lands described below. The lands are proclaimed to be the Rincon Reservation for the Rincon Band of Luiseno Mission Indians of Rincon Reservation, California in San Diego, California.

587 T 5625—Rodriguez

The land referred to herein is situated in the State of California, County of San Diego, and described as follows:

All that portion of the Pauma Rancho, in the County of San Diego, State of California, according to map thereof attached to the record of patent in Book 1, Page 67 of Patents, records of said San Diego County, described as follows:

Commencing at the most westerly corner of land described in deed to Pete Dykzuel, recorded March 12, 1942 in Book 1315, Page 239 of Official Records, said point being also the most Westerly corner of land described in Parcel 1 of Deed to Kenneth A. Chapman ET UX, recorded September 8, 1976 AS FILE/PAGE NO. 76-292966 of Official Records; THENCE along the boundary of said land of Chapman, as follows: North 38°00′20″ East 1010.34 Feet (Record North 38°09′40″ East 1012.19 Feet) North 51°50′20″ West 437.25 Feet to the center line of California State Highway NO-195, Section “D” as said Highway existed on February 1944, said point being on a 320.70 Foot radius curve, concave Southerly the radial line to said point bears North 34°22′05″ West; Northeasterly along said center line curve through an angle of 25°00′05″ a distance of 139.94 Feet; tangent to said curve, North 80°38′00″ East 70.93 Feet (Record North 81°44′16″ East 69.20 Feet) TO POINT “A” OF THIS DESCRIPTION; Thence South 45°29′00″ East 527.46 Feet; Thence South 38°00′20″ West 179.00 Feet; Thence South 45°29′00″ East 438.30 Feet; Thence South 38°00′20″ West 614.76 Feet to an intersection with the Southerly Boundary of said Pauma Rancho, said Point of Intersection being the TRUE POINT OF BEGINNING; Thence retracing the last four courses to said POINT “A”; Thence North 80°38′00″ East 73.62 Feet to the most Westerly corner of land described in Deed to O.K. Anderson, Recorded May 29, 1947 as FILE/PAGE NO. 56307 of Official Records; said point being also an angle point in the boundary of land described-in deed to Suzanne W. D'Aumant-Post, Recorded September 21, 1959 in BOOK 7891, Page 41 of Official Records; Thence along the boundary of said land of D'Aumant-Post as follows: South 45°29′00″ East 588.50 Feet; North 70°34′00″ East 393.80 Feet; North 76°57′00″ East 636.03 Feet; South 40°13′30″ East 1772.09 Feet; South 16°45′00″ West 430.18 Feet (Record 560.47 Feet) to the southerly boundary of said Pauma Rancho; and along said southerly boundary, North 75°39′48″ West 2377.12 Feet to the TRUE POINT OF BEGINNING.

Pursuant to Certificate of Compliance recorded April 28, 1977 as Instrument NO. 77-159162 of Official Records.

The above described lands contain a total of 56.66 acres, more or less, which are subject to all valid rights, reservations, rights-of-way, and easements of record.

This proclamation does not affect title to the lands described above, nor does it affect any valid existing easements for public roads, highways, public utilities, railroads and pipelines, or any other valid easements or rights-of-way or reservations of record.

Bryan Newland,
Assistant Secretary—Indian Affairs.

[FR Doc. 2024-30984 Filed 12-27-24; 8:45 am]

BILLING CODE 4337-15-P